DEPARTMENT OF AGRICULTURE

Foreign Agricultural Service

Request for Stakeholder Input Relevant to the North American Regional Priorities for the Food and Agricultural Organization of the United Nations

ACTION: Request for stakeholder input.

SUMMARY: The U.S. Department of Agriculture (USDA) and the U.S. Department of State will host for the U.S. government the 2018 Food and Agricultural Organization of the United Nations (FAO) Informal North American Regional Conference (INARC).

DATES: The INARC will be held on April 18-19, 2018. Stakeholder comments should be submitted to the point of contact listed below, by May 18, 2018.

FOR FURTHER INFORMATION CONTACT: Candice Bruce, (202) 720-1324, iNARC-FAO@fas.usda.gov.

SUPPLEMENTARY INFORMATION: The INARC is a biennial meeting co-chaired with the Government of Canada to discuss the FAO North American region's priorities as member countries of the FAO. Written input from stakeholders on their views for the 2018-2019 biennium priorities for the region is welcome and encouraged. Stakeholder input may be examined by the Governments of the United States and Canada while developing priorities for the 2018-2019 biennium. Priorities recommended by FAO member countries at regional conferences are taken into account in the FAO Programme of Work and Budget and are used to justify funding levels, work streams, and programming.

The North American priorities highlighted at the 2016 INARC included FAO's normative work and activities related to standards, guidelines, and practices; boosting FAO's regulatory capacity building; FAO's continued provision of impartial, evidence-based information to help small-holder farmers increase productivity and production in a sustainable manner; and increasing FAO's partnerships when implementing North American priorities. The North American region highlights FAO's science and evidence-based work and aims to ensure that FAO uses resources efficiently and operates primarily in its areas of comparative advantage.

Topics of focus to be discussed during the 2018 INARC include agri-food trade and global food security; gender equality and the empowerment of women; agricultural innovations; and FAO's work in emergencies and emerging threats. These are the specific topics on which comments are sought. North America's priorities will be published in the 5th INARC report which will be available to the public.

The U.S. Government solicits written input from stakeholders who want to provide views related to the focus of the discussion areas regarding the FAO North American region's priorities. This notice remains open after the INARC meeting; input received after April 18 may still be considered prior to the publication of the INARC report.

Dated: April 9, 2018.
Bobby Richey, Jr.
Acting Administrator, Foreign Agricultural Service.

[FR Doc. 2018-08350 Filed 4-20-18; 8:45 am]

BILLING CODE 3410-10-P